DEPARTMENT OF THE TREASURY

Bureau of Alcohol, Tobacco and Firearms

27 CFR Part 9

[T.D. ATF-441; RE: Notice No. 898]

RIN: 1512-AA07

Realignment of the Boundary of the Walla Walla Valley Viticultural Area and the Eastern Boundary of the Columbia Valley Viticultural Area (99R-141P)

AGENCY: Bureau of Alcohol, Tobacco and Firearms (ATF), Department of the Treasury.

ACTION: Final rule, Treasury decision.

SUMMARY: This final rule extends the boundary of the Walla Walla Valley viticultural area. This action is the result of petitions filed by growers and winemakers located within the existing area and in the new area being added. This final rule also extends the boundary of the Columbia Valley viticultural area so that it coincides with the boundary of Walla Walla Valley viticultural area.

The establishment of viticultural areas and the subsequent use of viticultural area names as appellations of origin in wine labeling and advertising allow wineries to designate the specific areas where the grapes used to make the wine were grown and enable consumers to better identify the wines they purchase.

EFFECTIVE DATE: April 27, 2001.

FOR FURTHER INFORMATION CONTACT: Lisa M. Gesser, Regulations Division, Bureau of Alcohol, Tobacco and Firearms, 650 Massachusetts Avenue, NW., Washington, DC 20226 (202-927-9347).

SUPPLEMENTARY INFORMATION:

Background

On August 23, 1978, ATF published Treasury Decision ATF-53 (43 FR 37672, 54624) revising regulations in 27 CFR part 4. These regulations allow the establishment of defined American viticultural areas. The regulations also allow the name of an approved viticultural area to be used as an appellation of origin in the labeling and advertising of wine.

On October 2, 1979, ATF published Treasury Decision ATF-60 (44 FR 56692) which added a new part 9 to 27 CFR, providing for the listing of approved American viticultural areas. Section 4.25a(e)(1), title 27, CFR, defines an American viticultural area as a delimited grape-growing region distinguishable by geographical features, the boundaries of which have been delineated in subpart C of part 9. Section 4.25a(e)(2) outlines the procedure for proposing an American viticultural area. Any interested person may petition ATF to establish a grape-growing region as a viticultural area. The petition should include:

(a) Evidence that the name of the proposed viticultural area is locally and/or nationally known as referring to the area specified in the petition;

(b) Historical or current evidence that the boundaries of the viticultural area are as specified in the petition;

(c) Evidence relating to the geographical features (climate, soil, elevation, physical features, etc.) which distinguish the viticultural features of the proposed area from surrounding areas;

(d) A description of the specific boundaries of the viticultural area, based on features which can be found on United States Geological Survey (U.S.G.S.) maps of the largest applicable scale; and

(e) A copy of the appropriate U.S.G.S. map(s) with the boundaries prominently marked.

Original Designation of the Walla Walla Valley and Columbia Valley Viticultural Areas

The Walla Walla Valley viticultural area was established by Treasury Decision (T.D.) ATF-165 on February 6, 1984 (49 FR 4374). The original petition, filed by the Walla Walla Valley Wine Growers Association, had requested designation of an area of approximately 300,000 acres. At the time of the original petition, ATF had been concerned that the total area to be designated was very large in proportion to the area used for viticulture. ATF and the petitioner agreed to reduce the size of the proposed area to encompass only the locations where grapes were being commercially grown. As approved, the Walla Walla Valley viticultural area consisted of approximately 260,000 acres, and had two wine producers and 60 acres of grapes. The area was within the counties of Walla Walla in Washington State and Umatilla in Oregon.

Later, when the Columbia Valley viticultural area was designated (T.D. ATF-190, November 13, 1984, [49 FR 44895-44899]), the Walla Walla Valley viticultural area was thought to be entirely within the Columbia Valley viticultural area. In preparation for the current rulemaking, we reviewed the maps in question and discovered that there is an area approximately 3 miles long where the eastern boundary of the Walla Walla Valley viticultural area extends beyond the eastern boundary of the Columbia Valley viticultural area. See our further discussion under “Extension of the Columbia Valley viticultural area.”

Petitions for Extension of the Boundaries of Walla Walla Valley

ATF received a petition from Mr. Gaynor S. Derby of Spring Valley Vineyards, requesting that the northern boundary of the existing Walla Walla Valley viticultural area be extended to add approximately 3500 acres to the northeastern part of the approved area. Later, we received a petition from the Walla Walla Valley Winegrowers, a group representing 20 wineries and vineyards located within the existing area or within the area they propose to add. Mr. Norm McKibben of Pepper Bridge Winery submitted the petition on behalf of the group. The Walla Walla Valley Winegrowers petitioned to expand the Walla Walla Valley viticultural area to include all the area requested in the original petition and additional land to the north. The petitioners referred to the evidence submitted with the original petition to show geographic distinctiveness and name recognition. The petitioners also provided supplemental information. Mr. Derby, who petitioned for a smaller extension of the existing area, agreed to support the larger extension proposed by the Walla Walla Valley Winegrowers.

Extension of the Columbia Valley Viticultural Area

This final rule also adjusts the boundary of the Columbia Valley viticultural area. In the original designation of the Columbia Valley viticultural area, ATF stated that the Walla Walla Valley viticultural area was entirely within the Columbia Valley viticultural area. As noted above, our recent review of the maps disclosed that there is a small area near Dixie, Washington, where the Walla Walla Valley viticultural area lies outside the boundaries of the Columbia Valley viticultural area. This overlap occurs in a place where the official boundary of the Columbia Valley moves from the 2000 foot contour line to a state highway. Therefore, we have amended the boundary so it follows the 2000 foot contour line for an additional 3 miles north, and then shifts to the state highway as before. This change extends the common boundary between the two viticultural areas and eliminates the area of overlap and any resulting confusion.

Notice of Proposed Rulemaking

In response to the petitions, ATF published a notice of proposed rulemaking, Notice No. 898, in the Federal Register on June 6, 2000 (65 FR 35871), proposing to revise the boundary of the Walla Walla Valley viticultural area and the eastern boundary of the Columbia Valley viticultural area. The notice requested comments from all interested persons by August 7, 2000. ATF received no comments concerning these proposals.

Evidence of Name

Based on historical materials supplied by petitioners in their original petition, there is substantial evidence indicating that the extension to the Walla Walla Valley viticultural area was locally and/or nationally known as Walla Walla Valley:

(a) The original petition stated that Walla Walla Valley “has been known as such since the time of settlement in the 1850's, even prior to the creation of the states of Oregon and Washington.”

(b) The Walla Walla Winegrowers noted the U.S.G.S. map of Walla Walla uses the name “Walla Walla Valley” to label an area that corresponds to the original viticultural area and places the name in a second location to the north of the original boundary, in the extended area being added.

(c) Mr. Derby quoted Professor W. D. Lyman's History of Walla Walla County, published in 1901. Professor Lyman described the Walla Walla Valley as “a large belt of agricultural land lying south of the Snake River and west of the Blue Mountains, extending across the Oregon Line on the south”—a description which fits the expanded area.

Evidence of Boundaries

The boundary of the original Walla Walla Valley viticultural area was limited to existing grape-growing areas for administrative reasons. In response to the new petitions, we reconsidered the evidence submitted in support of the original boundaries. Evidence provided in the original petition and in the new petitions show that the revised Walla Walla Valley viticultural area is delineated by boundaries corresponding to the following natural features:

• On the southeast, by the point where the north and south branches of the Walla Walla River emerge from the mountainous Umatilla National Forest and join to form the Walla Walla River;

• On the north, by the drainage divide between the Walla Walla River and the Touchet River; and

• On the west, where the Walla Walla River empties into the Columbia River.

Distinguishing Features

According to the original petitioners and the petitioners in the current rulemaking, the entire Walla Walla Valley shares characteristics of topography, soil composition and climate that set it apart from the surrounding area. The evidence in the original petition was presented as applying to the entire valley, and not just to the area that ATF originally proposed for designation as the Walla Walla Valley viticultural area. Therefore, we will summarize the material that was originally published for comment in ATF Notice No. 471 on June 27, 1983 (48 FR 29541-29543), with the understanding that it applies equally to the extension of the Walla Walla Valley viticultural area. We will supplement this information with material supplied by the two petitions for extension.

In his petition to extend the Walla Walla Valley viticultural area, Mr. Gaynor S. Derby quoted from an article titled “Washington Wine and Dining” published in the November 15, 1998, issue of Wine Spectator:

Washington state straddles one of the world's great geological divides: the Cascade Range. To the west of its summits, the maritime influence of the Pacific is supreme, and copious rains produce lush evergreen forests. * * * To the east, the damp sea breezes are blocked, the air warms and vineyards flourish with water provided by the Columbia River. The result is a growing and dynamic wine region. * * *

Topography

The original petition quoted the State of Washington's Geology and Groundwater Resources of the Walla Walla River Basin, Washington-Oregon, published in 1965, to describe the topography of the area:

“In the Walla Walla River Basin, the main topographic unit is the valley plain, commonly called the Walla Walla Valley, which de[s]cends from about 1,500′ at the foot of the mountain slopes to about 500′ where the river cuts through the bedrock ridge near Divide. It lies astride the Oregon/Washington border.”

Like the original approved area, the extension to the Walla Walla Valley viticultural area ranges from 250 to 600 meters (820 to 1,968 feet) in elevation. It is drained by creeks that generally flow south and east into the Walla Walla River. North of the new boundary, the streams and creeks generally drain into the Touchet River, further to the north.

Soil

The original petition stated that the soils of the valley “are classified by the Soil Conservation Service as Soils of Bottom Lands and Low Terraces, Soils of Loessal Uplands, Soils of Loessal and Basaltic Uplands and Soils of Loessal and Lake-Laid Terraces, basically all loess derived soils.” Most of these soils are classed as I or II irrigated capability units by the Soil Conservation Service. By contrast, the soils west of the Touchet River and along the Snake and Columbia Rivers are classified as Class IV and VI. Soils to the east in the Blue Mountains are considered not suitable for cultivation. We note the areas chosen for soil contrast are outside the expansion to the area.

Climate

As noted in the original petition, the climate of the Walla Walla Valley is distinctive because it has a growing season between 190 and 220 days, the longest within the surrounding six counties. The original petition contrasted places within the Walla Walla Valley with places outside of the valley. The places chosen for contrast included Dayton, Prescott, and Eltopia, Washington, all to the north of the northern extension to the viticultural area.

The Walla Walla Valley receives an average of 12.5 inches of precipitation a year, light in the summer, increasing and peaking in the winter. The Columbia Basin to the west and north receives less than 10 inches of precipitation in a year, and the Blue Mountains to the east and southeast receive 25-45 inches. Again, the places chosen for contrast are outside the extension of the viticultural area.

Boundaries

This final rule revises the boundary of the Columbia Valley viticultural area (described in § 9.74) and revises the boundary of the Walla Walla viticultural area (described in § 9.91).

U.S.G.S. Maps

The Walla Walla Winegrowers provided appropriate U.S.G.S. maps with their proposed boundaries prominently marked.

Executive Order 12866

It has been determined that this final rule is not a significant regulatory action as defined in Executive Order 12866. Accordingly, this final rule is not subject to the analysis required by this Executive Order.

Regulatory Flexibility Act

It is hereby certified that this regulation will not have a significant economic impact on a substantial number of small entities. Any benefit derived from the use of a viticultural area name is the result of the proprietor's own efforts and consumer acceptance of wines from a particular area. No new recordkeeping or reporting requirements are imposed. Accordingly, a regulatory flexibility analysis is not required.

Paperwork Reduction Act

The provisions of the Paperwork Reduction Act of 1995 (44 U.S.C. 3507) and its implementing regulations, 5 CFR part 1320, do not apply to this final rule because no requirement to collect information is imposed.

Drafting Information

The principal author of this document is Lisa M. Gesser, Regulations Division, Bureau of Alcohol, Tobacco and Firearms.

List of Subjects in 27 CFR Part 9

Administrative practices and procedures, Consumer protection, Viticultural areas, and Wine.

Authority and Issuance

Title 27, Code of Federal Regulations, part 9, American Viticultural Areas, is amended as follows:

PART 9—AMERICAN VITICULTURAL AREAS

Paragraph 1. The authority citation for part 9 continues to read as follows:

Authority: 27 U.S.C. 205.

Par. 2. Section 9.74 is amended by revising paragraphs (c)(43) and (c)(44) to read as follows:

§ 9.74 Columbia Valley.

* * * * *

(c) * * *

(43) Then southwest following Washington Highway 126 and U.S. Highway 12 through Marengo, Dayton, and Waitsburg to a point where an unnamed light-duty road leaves Highway 12 in an easterly direction in Minnick Station, Washington;

(44) Then east following the unnamed light-duty road for approximately 250 feet until it reaches the 2000′ contour line;

* * * * *

Par. 3. Section 9.91 is revised to read as follows:

§ 9.91 Walla Walla Valley.

(a) Name. The name of the viticultural area described in this section is “Walla Walla Valley.”

(b) Approved maps. The appropriate maps for determining the boundaries of the Walla Walla Valley viticultural area are two U.S.G.S. maps, in the scale 1:100,000. They are entitled:

(1) “Walla Walla,” Washington-Oregon, 1980

(2) “Pendleton,” Oregon-Washington, 1983

(c) Boundaries. The Walla Walla Valley viticultural area is located within Walla Walla County in Washington State and Umatilla County in Oregon. It is entirely within the Columbia Valley viticultural area. The boundaries are as follows:

(1) The beginning point is on the Walla Walla quadrangle map, in T8N/37E, at the point where the 2,000 foot contour line intersects with an unnamed light duty road approximately 250 feet east of U.S. Highway 12 in Minnick, Washington (on maps measured in metric units, this elevation is between the 600 and 650 meter contour lines),

(2) Then the boundary goes northwest in a straight line for 7 kilometers (km), until it intersects with a power line that runs between T8N and T9N,

(3) Then the boundary follows the power line west for 8 km, where it diverges from the power line and goes west-southwest in a straight line for approximately 33 km to the intersection of 2 unnamed light duty roads in the area marked Ninemile Canyon in the southwest corner of T8N/R33E,

(4) Then the boundary goes south-southwest in a straight line approximately 8 km, until it reaches U.S. Highway 12, about 2.5 km east of Reese, Washington,

(5) Then the boundary goes south in a straight line for approximately 8 km, crossing the Washington-Oregon state line and moving onto the Pendleton U.S.G.S. map, where it meets the 450 m contour line in T6N/R32E, near an unnamed peak with an elevation of 461 m,

(6) Then the boundary follows the 450 m contour line in a generally southeasterly direction until it intersects Dry Creek in T4N/R35E,

(7) Then the boundary goes southeast along Dry Creek (Oregon) until it reaches the 2000 foot contour line,

(8) Then the boundary follows the 2000 foot contour line in a generally northeasterly direction, crossing the Oregon-Washington state line and returning to the Walla Walla U.S.G.S map, until it reaches the point of beginning.

Signed: October 31, 2000.
Bradley A. Buckles,
Director .
Approved: November 14, 2000.
Timothy E. Skud,
Acting Deputy Assistant Secretary, Regulatory, Tariff and Trade Enforcement.

[FR Doc. 01-4646 Filed 2-23-01; 8:45 am]

BILLING CODE 4810-31-P